COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities, and deletes a service previously provided by such agency.

DATES: Comments Must Be Received On Or Before: 6/16/2014.

ADDRESSES: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: MR 337—Scrubber Brush, Produce

NSN: MR 830—Spinner, Salad

NSN: MR 334—Turner, Omelet

NSN: MR 333—Utensil, Splitter, Mango

NPA: Cincinnati Association for the Blind, Cincinnati, OH

Contracting Activity: Defense Commissary Agency, Fort Lee, VA

COVERAGE: C-List for the requirements of military commissaries and exchanges as aggregated by the Defense Commissary Agency.

NSN: MR 10640—Bowl, Dressing Dispenser, Salad

NPA: Winston-Salem Industries for the Blind, Inc., Winston-Salem, NC

Contracting Activity: Defense Commissary Agency, Fort Lee, VA

COVERAGE: C-List for the requirements of military commissaries and exchanges as aggregated by the Defense Commissary Agency.

Undershirt, FREE, Army, Unisex

NSN: 8415-01-588-0506—Desert Sand, Size XS

NSN: 8415-01-588-0740—Desert Sand, Size S

NSN: 8415-01-588-0746—Desert Sand, Size M

NSN: 8415-01-588-0772—Desert Sand, Size L

NSN: 8415-01-588-0774—Desert Sand, Size XL

NSN: 8415-01-588-0794—Desert Sand, Size XXL

NSN: 8415-01-576-9915—Foliage Green, Size XS

NSN: 8415-01-576-9930—Foliage Green, Size S

NSN: 8415-01-577-0407—Foliage Green, Size M

NSN: 8415-01-577-0408—Foliage Green, Size L

NSN: 8415-01-577-0409—Foliage Green, Size XL

NSN: 8415-01-577-0410—Foliage Green, Size XXL

NPA: Bestwork Industries for the Blind, Inc., Runnemede, NJ

Contracting Activity: Dept Of The Army, W6QK ACC-APG Natick, Natick, MA

COVERAGE: C-List for 100% of the requirement of the Department of the Army, as aggregated by the Army Contracting Command—Aberdeen Proving Ground, Natick Contracting Division, Natick, MA.

NSN: 7510-00-290-2026—Tape, Masking & Packaging, General Purpose

NPA: Cincinnati Association for the Blind, Cincinnati, OH

Contracting Activity: General Services Administration, New York, NY

COVERAGE: A-List for the Total Government Requirement as aggregated by the General Services Administration.

Dry Erase White Board

NSN: 7110-00-NIB-2201—Magnetic Porcelain Surface, Mahogany Finish, 36″ × 24″

NSN: 7110-00-NIB-2202—Magnetic Porcelain Surface, Mahogany Finish, 48″ × 36″

NSN: 7110-00-NIB-2203—Magnetic Porcelain Surface, Mahogany Finish, 72″ × 48″

NSN: 7110-00-NIB-2204—Melamine Surface, Oak Finish, 36″ × 24″

NSN: 7110-00-NIB-2205—Melamine Surface, Oak Finish, 48″ × 36″

NSN: 7110-00-NIB-2208—Magnetic Porcelain Surface, Mahogany Finish, Top-Bottom-Side, 48″ × 36″

NSN: 7110-00-NIB-2209—Magnetic Porcelain Surface, Mahogany Finish, Top-Bottom-Side Rails, 72″ × 48″

NSN: 7110-01-334-7079—Magnetic Porcelain Surface, Oak Finish, 36″ × 24″

NSN: 7110-01-334-7080—Magnetic Porcelain Surface, Oak Finish, 48″ × 36″

NSN: 7110-01-334-7082—Magnetic Porcelain Surface, Oak Finish, 72″ × 48″

COVERAGE: A-List for the Total Government Requirement, as aggregated by the General Services Administration.

NSN: 7110-00-NIB-2207—Magnetic Porcelain Surface, Mahogany Finish, Top-Bottom-Side Rails, 36″ × 24″

NSN: 7110-01-334-7078—Magnetic Porcelain Surface, Oak Finish, 24″ × 18″

NSN: 7110-01-334-7081—Magnetic Porcelain Surface, Oak Finish, 60″ × 36″

COVERAGE: B-List for the Broad Government Requirement, as aggregated by the General Services Administration.

NPA: The Lighthouse for the Blind, Inc. (Seattle Lighthouse), Seattle, WA

Contracting Activity: General Services Administration, FSS Household and Industrial Furniture, Arlington, VA

Services

Service Type/Location: Healthcare Housekeeping and Related Services, US Army Medical Command, Madigan Army Medical Center, Building 473 Cabrillo St, Suite A1A, Presidio of Monterey, CA

NPA: HHI Services Inc., San Antonio, TX

Contracting Activity: Dept of the Army, W40M USA MEDCOM HCAA, Fort Sam Houston, TX

Service Type/Location: Kennel Caretaker Service, U.S. Customs and Border Protection, Kennel Facility, Ft Buchanan, Bldg 295, Guaynabo, PR

NPA: The Corporate Source, Inc., New York, NY

Contracting Activity: Dept of Homeland Security, U.S. Customs and Border Protection, Border Enforcement Contracting Division, Washington, DC

Service Type/Locations: Laundry and Linen Service, VA Tennessee Valley Healthcare System, Nashville Campus, 1310 24th Avenue South, Nashville, TN

VA Tennessee Valley Healthcare System, Murfreesboro Campus, 3400 Lebanon Pike, Murfreesboro, TN

NPA: Wiregrass Rehabilitation Center, Inc., Dothan, AL

Contracting Activity: Department of Veterans Affairs, 249-Network Contract Office 9, Murfreesboro, TN

Deletion

The following service is proposed for deletion from the Procurement List:

Service

Service Type/Location: Janitorial/Custodial Service, Social Security Administration Building, 612 N. Church Street, Rockford, IL

NPA: OMNI Business Services, Inc., Rockford, IL

Contracting Activity: General Services Administration, FPDS Agency Coordinator, Washington, DC

Barry S. Lineback,
Director, Business Operations.

[FR Doc. 2014-11367 Filed 5-15-14; 8:45 am]

BILLING CODE 6353-01-P